DEPARTMENT OF LABOR

Employment and Training Administration

[TA-W-38,358 and NAFTA-4241]

Tower Automotive, Kalamazoo, Michigan; Notice of Negative Determination Regarding Application for Reconsideration

By application dated March 30, 2001, the International Union, United Automobile, Aerospace & Agricultural Implement Workers of America (UAW), requested administrative reconsideration of the Department's negative determination regarding eligibility to apply for Trade Adjustment Assistance (TAA) and North American Free Trade Agreement—Transitional Adjustment Assistance (NAFTA-TAA), applicable to workers and former workers of the subject firm. The denial notices were signed on January 31, 2001, and published in the Federal Register on March 2, 2001 (66 FR 52539).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The UAW asserts that for the NAFTA-TAA petition denial, the finding that the customers of Tower Automotive did not import stampings is incorrect. The UAW states that Ford Motor Company was one of the major customers and acknowledges moving work, including 72 different dies for metal stamped components, from the Kalamazoo facility to Hermosillo, Mexico. The UAW states that Ford reports that the parts made in Mexico are being used in the production of a non-U.S. market automobile. Further, the UAW believes that some portion of the Mexican parts production is being imported for use in the U.S. market, and that a survey should be conducted for each of those 72 components.

The Department issued the NAFTA-TAA denial to workers producing metal stampings at Tower Automotive, based on the finding that the subject firm did not shift production of those articles from Kalamazoo, Michigan, to Mexico or Canada, nor did the company or customers import articles like or directly competitive with those produced by the workers. If Ford did move the stamping production to Mexico, that is not a basis for certifying the Tower Automotive workers. Only if those stampings were being returned to the U.S. from Mexico could the worker group be certified for NAFTA-TAA. The survey of the major customers of the subject firm showed that none imported metal stampings from Canada or Mexico in 1999 or 2000. The survey conducted included articles like or directly competitive with those made by the workers at the subject firm and would include the articles made with the 72 dies cited by the UAW.

The UAW asserts that for the TAA petition denial, the Department was incorrect in basing the failure to meet criterion (3) of the group eligibility requirements of Section 222 of the Trade Act of 1974, solely on the finding that the company did not import metal stampings. The Department concurs with the UAW on this issue. The decision document for [TA-W-38,385] failed to include the results of the customer survey used for the petition investigation for [NAFTA-4241]. The Department's NAFTA customer survey asked the respondents to provide information not limited to import purchases of metal stampings from Mexico or Canada, but additionally, all other import purchases. The inclusion of this information would not have reversed the findings for criterion (3).

The UAW also submitted import data for automobiles that they believe are like or directly competitive with the Ford Escort, the automobile for which the Tower Automotive supplied parts. Under the Trade Act of 1974, as amended, the Department is required to examine the imports of articles like or directly competitive with those produced at the workers' firm. Consequently, for both the TAA and NAFTA-TAA petitions, the Department does not consider automobiles to be like or directly competitive with the stampings produced by the workers at Tower Automotive, Kalamazoo, Michigan.

Conclusion

After review of the application and investigative findings, I conclude that there has been no error or misinterpretation of the law or of the facts which would justify reconsideration of the Department of Labor's prior decisions. Accordingly, the application is denied.

Signed at Washington, DC this 8th day of August 2001.
Edward A. Tomchick,
Director, Division of Trade Adjustment Assistance.

[FR Doc. 01-21848 Filed 8-28-01; 8:45 am]

BILLING CODE 4510-30-M